DEPARTMENT OF COMMERCE

Foreign-Trade Zones Board

[B-65-2015]

Foreign-Trade Zone 149—Freeport, Texas: Application for Expansion Under Alternative Site Framework

An application has been submitted to the Foreign-Trade Zones (FTZ) Board by Port Freeport, grantee of FTZ 149, requesting authority to expand the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on September 22, 2015.

FTZ 149 was approved by the FTZ Board on June 28, 1988 (Board Order 385, 53 FR 26096, 7/11/1988), and reorganized under the alternative site framework on August 29, 2012 (Board Order 1853, 77 FR 54891, 9/6/2012). The zone currently has a service area that includes Brazoria and Fort Bend Counties, Texas.

The zone includes the following magnet sites: Site 1 (280 acres)—Port Freeport Primary Facility, 1001 Navigation Boulevard, Freeport; Site 3 (1,063.10 acres, sunset 8/31/2017)—Port Freeport (Parcels 13, 14 & 19)—State Highway 288, Freeport; and, Site 10 (8 acres, sunset 8/31/2017)—Alvin Santa Fe Industrial Park, 200 Avenue I, Alvin.

The applicant is requesting authority to expand existing Site 1 to include an additional 40 acres at the Port Freeport Primary Facility (new total—320 acres).

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is November 30, 2015. Rebuttal comments in response to material submitted during the foregoing period may be submitted during the subsequent 15-day period to December 14, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: September 22, 2015.
Andrew McGilvray,
Executive Secretary.

[FR Doc. 2015-24683 Filed 9-28-15; 8:45 am]

BILLING CODE 3510-DS-P